DEPARTMENT OF TRANSPORTATION

Federal Aviation Administration

RTCA Program Management Committee

AGENCY: Federal Aviation Administration (FAA), DOT.

ACTION: Notice of RTCA Program Management Committee meeting.

SUMMARY: The FAA is issuing this notice to advise the public of a meeting of the RTCA Program Management Committee.

DATES: The meeting will be held March 22, 2007 starting at 9 a.m.

ADDRESSES: The meeting will held at RTCA, Inc., 1828 L Street, NW., Suite 805, Washington, DC 20036.

FOR FURTHER INFORMATION CONTACT: RTCA Secretariat, 1828 L Street, NW., Suite 850, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Program Management Committee meeting. The agenda will include:

• March 22:

• Opening Session (Welcome and Introductory Remarks, Review/Approve Summary of Previous Meeting, Paper No. 046-07/PMC-515).

• Publication Consideration/Approval:

• Final Draft, New Document, Guidance Material and Considerations for Unmanned Aircraft Systems, RTCA Paper No. 048-07/PMC-517, prepared by SC-203.

• Discussion:

• Aeronautical Mobile Satellite Service—Discussion—Possible New Committee.

• SC-202 Portable Electronic Devices (PEDs)—Discusson—Revised terms of Reference.

• Special Committee Chairman's Reports.

• Action Item Review:

• Data Communications—Discussion—Possible New Committee.

• SC-147—Traffic Alert & Collision Avoidance System—Discussion.

• Revised Terms of Reference and SC-147 Status Review.

• FAA Update on activities that affect the work of SC-147.

• PMC Ad Hoc Subgroup—Status Review.

• SC-203—Unmanned Aircraft Systems (UAS)—Discussion—Status Review.

• SC-205—Software Considerations-Discussions-Status Review.

• Aeronautical Systems Security—Discussion—Possible New Committee.

• EUROCAE WG-68—Altimerty—Discussion.

• Closing Session (Other Business, Document Production, Date and Place of Next Meeting, Adjourn).

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on March 5, 2007.
Francisco Estrada C.,
RTCA Advisory Committee.

[FR Doc. 07-1159 Filed 3-12-07; 8:45 am]

BILLING CODE 4910-13-M